DEPARTMENT OF TRANSPORTATION

Federal Aviation Administration

Notice of Intent To Request Revision From the Office of Management and Budget of a Currently Approved Information Collection Activity, Request for Comments; Washington, DC Metropolitan Area Special Flight Rules; Withdrawal

AGENCY: Federal Aviation Administration (FAA), DOT.

ACTION: Notice and request for comments; withdrawal.

SUMMARY: The FAA is withdrawing a previously published Notice of Intent to Request Revision From the Office of Management and Budget of a Currently Approved Information Collection Activity that proposed to extend without change the approved information collection titled “Washington, DC Metropolitan Area Special Flight Rules” (OMB Control Number 2120-0706). We are withdrawing the document because, while the collection activity has approval from the Office of Management and Budget, approval and publication of the final rule is still pending.

FOR FURTHER INFORMATION CONTACT: Carla Mauney on (202) 267-9895, or by e-mail at: Carla.Mauney@faa.gov.

SUPPLEMENTARY INFORMATION:

Background

On December 3, 2008, the FAA published a Notice of Intent to Request Revision from the Office of Management and Budget (OMB) of a Currently Approved Information Collection Activity (73 FR 73688). The notice invited public comments about FAA's intention to request OMB to approve a current information collection. The information collection is required for compliance with the final rule that codifies special flight rules for certain operations in the Washington, DC Metropolitan Area.

Reason for Withdrawal

We are withdrawing the notice because, while the information collection requirement has been approved, approval and publication of the final rule is still pending. Therefore, the FAA withdraws the notice entitled, “Notice of Intent to Request From the Office of Management and Budget of a Currently Approved Information Collection Activity, Request for Comments; Washington, DC Metropolitan Area Special Flight Rules,” published on page 73688 in the Federal Register of December 3, 2008. If the final rule is adopted, we will re-publish the notice at that time.

Issued in Washington, DC, on December 3, 2008.
Carla Mauney,
FAA Information Collection Clearance Officer, IT Enterprises Business Services Division, AES-200.

[FR Doc. E8-29007 Filed 12-3-08; 4:15 pm]

BILLING CODE 4910-13-P